INTERNATIONAL TRADE COMMISSION

[Investigation Nos. 701-TA-685 and 731-TA-1599-1601 and 1603 (Final)]

Tin Mill Products From Canada, China, Germany, and South Korea; Determinations

On the basis of the record ¹ developed in the subject investigations, the United States International Trade Commission (“Commission”) determines, pursuant to the Tariff Act of 1930 (“the Act”), that an industry in the United States is not materially injured or threatened with material injury, and the establishment of an industry in the United States is not materially retarded by reason of imports of tin mill products from Canada, China, and Germany, provided for in subheadings 7210.11.00, 7210.12.00, 7210.50.00, 7212.10.00, 7212.50.00, 7225.99.00, and 7226.99.01 of the Harmonized Tariff Schedule of the United States, that have been found by the U.S. Department of Commerce (“Commerce”) to be sold in the United States at less than fair value (“LTFV”), and imports of the subject merchandise from China that have been found to be subsidized by the government of China.² The Commission further finds that imports of these products from South Korea that Commerce has determined are sold in the United States at LTFV are negligible and terminates the antidumping duty investigation concerning South Korea.

¹ The record is defined in § 207.2(f) of the Commission's Rules of Practice and Procedure (19 CFR 207.2(f)).

² 89 FR 1542, 89 FR 1538, 89 FR 1529, 89 FR 1545, 89 FR 1532 (January 10, 2024).

Background

The Commission instituted these investigations effective January 18, 2023, following receipt of petitions filed with the Commission and Commerce by Cleveland-Cliffs Inc. (“Cleveland-Cliffs”), Cleveland, Ohio, and the United Steel, Paper and Forestry, Rubber, Manufacturing, Energy, Allied Industrial and Service Workers International Union (“USW”), Pittsburgh, Pennsylvania. The final phase of the investigations was scheduled by the Commission following notification of preliminary determinations by Commerce that imports of tin mill products from China were subsidized within the meaning of section 703(b) of the Act (19 U.S.C. 1671b(b)) and imports from Canada, China, and Germany, were sold at LTFV within the meaning of 733(b) of the Act (19 U.S.C. 1673b(b)).³ Notice of the scheduling of the final phase of the Commission's investigations and of a public hearing to be held in connection therewith was given by posting copies of the notice in the Office of the Secretary, U.S. International Trade Commission, Washington, DC, and by publishing the notice in the Federal Register (88 FR 60484, September 1, 2023, revised 88 FR 65194, September 21, 2023). The Commission conducted its hearing on January 4, 2024. All persons who requested the opportunity were permitted to participate.

³ Commerce published notice in the Federal Register of an affirmative final determination in connection with the investigation concerning tin mill products from South Korea (89 FR 1545, January 10, 2024) and negative final determinations in connection with the investigations concerning tin mill products from the Netherlands, Taiwan, Turkey, and the United Kingdom (89 FR 1524, 89 FR 1526, 89 FR 1520, 89 FR 1535, January 10, 2024). Accordingly, effective January 10, 2024, the Commission terminated its antidumping duty investigations concerning tin mill products from the Netherlands, Taiwan, Turkey, and the United Kingdom (89 FR 3694, January 19, 2024).

The Commission made these determinations pursuant to §§ 705(b) and 735(b) of the Act (19 U.S.C. 1671d(b) and 19 U.S.C. 1673d(b)). It completed and filed its determinations in these investigations on February 26, 2024. The views of the Commission are contained in USITC Publication 5492 (February 2024), entitled Tin Mill Products from Canada, China, Germany, and South Korea: Investigation Nos. 701-TA-685 and 731-TA-1599-1601 and 1603 (Final).

By order of the Commission.
Issued: February 26, 2024.
Lisa Barton,
Secretary to the Commission.

[FR Doc. 2024-04238 Filed 2-28-24; 8:45 am]

BILLING CODE 7020-02-P